FEDERAL COMMUNICATIONS COMMISSION

Notice of Public Information Collection(s) Being Reviewed by the Federal Communications Commission for Extension Under Delegated Authority; Comments Requested

December 13, 2002.

SUMMARY: The Federal Communications Commission, as part of its continuing effort to reduce paperwork burden invites the general public and other Federal agencies to take this opportunity to comment on the following information collection(s), as required by the Paperwork Reduction Act of 1995, Pub.L 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on or before March 31, 2003.

ADDRESSES: Direct all comments to Les Smith, Federal Communications Commission, Room 1-A804, 445 12th Street, SW., Washington, DC 20554, or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0178.

Title: Section 73.1560, Operating Power and Mode Tolerances.

Form Number: N/A.

Type of Review: Extension of a currently approved collection.

Respondents: Business and other for-profit entities.

Number of Respondents: 280.

Estimated Time per Response: 1 hour.

Frequency of Response: On occasion reporting requirements.

Total Annual Burden: 280 hours.

Total Annual Costs: None.

Needs and Uses: 47 CFR 73.1560 requires licensees of AM, FM or TV broadcast stations to file a notification with the FCC when operating at reduced power for ten consecutive days and upon restoration of normal operations, A licensee must also file an informal written request for additional time when operation cannot be restored within 30 days due to circumstances beyond the licensee's control. The FCC staff use these data to maintain complete and accurate data about station operations.

OMB Control Number: 3060-0181.

Title: Section 73.1615, Operation During Modification of Facilities.

Form Number: N/A.

Type of Review: Extension of currently approved collection.

Respondents: Business or other for-profit entities.

Number of Respondents: 110.

Estimated Time per Response: 20-60 mins.

Frequency of Response: On occasion reporting requirements.

Total annual burden: 27 hours.

Total Annual Costs: $6,000.

Needs and Uses: 47 CFR 73.1615(c) requires the licensee of an AM, FM, or TV station to notify to the FCC when it is in the process of modifying existing facilities as authorized by a construction permit, and it becomes necessary either to discontinue operation or to operate with temporary facilities. If the licensee needs to discontinue operations or to operate with temporary facilities for more than 30 days, then an informal letter request must be sent to the FCC prior to the 30th day. Section 73.1615(d) requires the licensee of an AM station holding a construction permit, which authorizes both a change in frequency and directional facilities, to obtain authority from the FCC prior to using any new installation authorized by the permit, or using temporary facilities. This request is to be made by letter 10 days prior to the date on which the temporary operation is to commence. This letter shall describe the operating modes and facilities to be used. The FCC staff use the data to maintain complete technical records and to ensure that interference will not be caused by other licensed broadcast facilities.

Federal Communications Commission.
Marlene H. Dortch,
Secretary.

[FR Doc. 03-1843 Filed 1-27-03; 8:45 am]

BILLING CODE 6712-01-P